AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before July 2, 2007.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION: OMB NO: OMB 0412—New.

Form No.: N/A.

Title: Invoice/Payment Request, Contractor's Release Statement, and Subcontractor Payment Information-Invoice/Payment Request Attachment.

Type of Review: New.

Purpose

These documents are to be used by construction company prime contractors and sub-contractors during the performance of a duly executable contract. A duly executable contract arrangement may be in the form of a contract, task order, modification, letter contract, and written or oral orders. The information provided will be evaluated by USAID, cognizant technical officer, agency finance personnel, or an authorized contracting officer's representative for contractor progress payments during proper execution of construction projects. The information provided may also be used by a surety, insurance, or bonding company for progress payment purposes when the prime construction contractor fails in the performance of a contract, task order, modification, letter contract, or written and oral orders. The information provided in the Invoice/Payment Request form, Contractor's Release Statement, and Subcontractor Payment Information-Invoice/Payment Request Attachment may also be used by a third party construction company for progress payments when the prime construction contractor fails to execute or fails in the performance of a construction contract, task order, modification, letter contract, and written or oral orders.

Annual Reporting Burden:

Respondents: 1,000.

Total annual responses: 1,000.

Total annual hours requested: 600.

Dated: April 23, 2007.
Joanne Paskar,
Chief, Information and Records Division, Office of Administrative Services, Bureau for Management.

[FR Doc. 07-2158 Filed 5-1-07; 8:45 am]

BILLING CODE 6116-01-M